DEPARTMENT OF COMMERCE

National Institute of Standards and Technology

Notice of Prospective Grant of Exclusive Patent License

AGENCY: National Institute of Standards and Technology Commerce.

ACTION: Notice of Prospective Grant of Exclusive Patent License.

SUMMARY: This is a notice in accordance with 35 U.S.C. 209(c)(1) and 37 CFR 404.7(a)(1)(i) that the National Institute of Standards and Technology (“NIST”), U.S. Department of Commerce, is contemplating the grant of an exclusive license in the United States of America, its territories, possessions and commonwealths, to NIST's interest in the invention embodied in U.S. Patent Application 09/016,668, titled, “Temperature Calibration Wafer For Rapid Thermal Processing Using Thin-Film Thermocouples”, filed January 27, 1998; NIST Docket No. 97-021US to Claud S. Gordon Co., having a place of business at 5710 Kenosha St., Richmond, IL. The grant of the license would be for the field of use of Semiconductor Manufacturing.

FOR FURTHER INFORMATION CONTACT: J. Terry Lynch, National Institute of Standards and Technology, Office of Technology Partnerships, Building 820, Room 213, Gaithersburg, MD 20899.

SUPPLEMENTARY INFORMATION: The prospective exclusive license will be royalty-bearing and will comply with the terms and conditions of 35 U.S.C. 209 and 37 CFR 404.7. The prospective exclusive license may be granted unless, within sixty days from the date of this published Notice, NIST receives written evidence and argument which establish that the grant of the license would not be consistent with the requirements of 35 U.S.C. 209 and 37 CFR 404.7. The availability of the invention for licensing was published in the Federal Register, Vol. 63, No. 42 (March 4, 1998).

U.S. Patent application 09/016,668 is owned by the U.S. Government, as represented by the Secretary of Commerce. The present invention enables the measurement of temperature and the calibration of temperature measurements in rapid thermal processing tools for silicon wafer processing to a greater accuracy than previously possible. The invention is a device which is a calibration wafer of novel construction and capabilities. The calibration wafer is comprised of an array of junctions of thin film thermocouples which traverse the silocon wafer (typically 300 mm in diameter) and are welded to thermocouple wires of the same composition as the thin films. The advantages of very low mass thin-film thermocouples in making these measurements are greatest under the extremely high heat flux conditions present in rapid thermal processing tools (100 w/cm2). In order to achieve these measurements with thin-film thermocouples at temperatures ranging up to 900 degrees celsius a novel approach was taken in the design and fabrication of the wafer including the incorporation of an adhesion film for the thermoelements, diffusion barriers, and high temperature dielectric insulators.

Dated: June 8, 2000.
Karen H. Brown,
Deputy Director.

[FR Doc. 00-15496 Filed 6-19-00; 8:45 am]

BILLING CODE 3510-13-M